POSTAL REGULATORY COMMISSION

39 CFR Part 3020

[RM2011-1; Order No. 552]

Periodic Reporting

AGENCY: Postal Regulatory Commission.

ACTION: Notice of temporary waiver request.

SUMMARY: The Commission is establishing a docket to address a recent Postal Service request for approval of a temporary waiver of rules requiring it to provide periodic reports on service performance for certain market dominant postal services. The Postal Service's request reflects the expectation that a transition period likely would be needed before full compliance with new reporting rules could be accomplished. This notice informs the public about the Postal Service's interest in obtaining a temporary waiver and invites comments that will inform the Commission's decision on the request.

DATES: Comments Due: October 29, 2010.

Reply Comments Due: November 15, 2010.

ADDRESSES: Submit comments electronically via the Commission's Filing Online system at http://www.prc.gov. Those who cannot submit comments electronically should contact the person identified in the FOR FURTHER INFORMATION CONTACT section for information on filing alternatives.

FOR FURTHER INFORMATION CONTACT: Stephen L. Sharfman, General Counsel, 202-789-6820 or stephen.sharfman@prc.gov.

SUPPLEMENTARY INFORMATION: On October 1, 2010, the Postal Service filed a request for temporary waivers from periodic reporting of service performance measurement for various market dominant postal services, or components of postal services, pursuant to Commission Order No. 465.¹

¹ United States Postal Service Request for Temporary Waivers from Periodic Reporting of Service Performance Measurement, October 1, 2010 (Request); see also Order Establishing Final Rules Concerning Periodic Reporting of Service Performance Measurements and Customer Satisfaction, May 25, 2010, at 22-24 (Order No. 465).

Order No. 465 established a process for the Postal Service to achieve full compliance with all periodic service performance reporting requirements by the filing date of the FY 2011 Annual Compliance Report. Order No. 465 at 18-24. As part of the process, the Commission directed the Postal Service to seek temporary waivers where it cannot immediately comply with specific reporting requirements. As a condition of granting any waiver, the Commission directed the Postal Service to develop and present implementation plans addressing each reporting requirement for which the Postal Service cannot provide the required information. The “plans at a minimum should provide an explanation of why a reporting requirement cannot be complied with, the steps necessary to come into compliance, and a timeline of events necessary to achieve compliance. Interim milestones shall be included in the plans where applicable such that both the Postal Service and the Commission can evaluate progress being made.” Id. at 23.

In the instant Request, the Postal Service seeks temporary waivers for First-Class Mail Flats at the district level, non-retail First-Class Mail Parcels, all categories of Standard Mail, Outside County Periodicals, non-retail Media Mail, Library Mail, Bound Printed Matter Parcels, and Stamp Fulfillment Services. Request at 1. The Postal Service also discusses what measurements it will report in the interim.

The Commission establishes Docket No. RM2011-1 for consideration of matters related to the proposed semi-permanent exception from periodic reporting of service performance measurement identified in the Postal Service's Request.

Interested persons may submit comments on whether the Postal Service's Request is consistent with the policies of 39 U.S.C. 3652(a)(2) and with the directions given in Order No. 465. Interested persons also may comment on interim measurement proposals. Comments are due no later than October 29, 2010. Reply comments are due no later than November 15, 2010. The Postal Service's Request can be accessed via the Commission's Web site (http://www.prc.gov).

The Commission appoints Emmett Rand Costich to serve as Public Representative in the captioned proceedings.

It is ordered:

1. The Commission establishes Docket No. RM2011-1 for consideration of matters raised by the Postal Service's Request.

2. Comments by interested persons in these proceedings are due no later than October 29, 2010.

3. Reply comments by interested persons in these proceedings are due no later than November 15, 2010.

4. Pursuant to 39 U.S.C. 505, Emmett Rand Costich is appointed to serve as the officer of the Commission (Public Representative) to represent the interests of the general public in these proceedings.

5. The Secretary shall arrange for the publication of this order in the Federal Register.

By the Commission.
Shoshana M. Grove,
Secretary.

[FR Doc. 2010-26835 Filed 10-25-10; 8:45 am]

BILLING CODE 7710-FW-P